DEPARTMENT OF COMMERCE

International Trade Administration

[A-570-888]

Floor-Standing, Metal-Top Ironing Tables and Certain Parts Thereof from the People's Republic of China: Preliminary Results of Antidumping Duty Administrative Review

AGENCY: Import Administration, International Trade Administration, Department of Commerce.

SUMMARY: In response to requests from interested parties, the Department of Commerce (the Department) is conducting an administrative review of the antidumping duty order on floor-standing, metal-top ironing tables and certain parts thereof from the People's Republic of China (PRC). The period of review (POR) is August 1, 2008 through July 31, 2009. We have preliminarily determined that respondents Foshan Shunde Yongjian Housewares & Hardware Co., Ltd. (Foshan Shunde) and Since Hardware (Guangzhou) Co., Ltd. (Since Hardware) have made sales to the United States of the subject merchandise at prices below normal value. We invite interested parties to comment on these preliminary results. Parties filing comments are requested to submit with each argument (1) a statement of the issue and (2) a brief summary of the argument(s).

EFFECTIVE DATE: September 14, 2010.

FOR FURTHER INFORMATION CONTACT: Michael J. Heaney or Robert James, AD/CVD Operations, Office 7, Import Administration, International Trade Administration, U.S. Department of Commerce, 14th Street and Constitution Avenue, NW, Washington, DC 20230; telephone: (202) 482-4475 or (202) 482-0649, respectively.

SUPPLEMENTARY INFORMATION:

Background

On August 6, 2004, the Department published in the Federal Register the antidumping duty order regarding floor-standing, metal-top ironing tables and certain parts thereof (ironing tables) from the PRC. See Notice of Amended Final Determination of Sales at Less Than Fair Value and Antidumping Duty Order: Floor-Standing, Metal-Top Ironing Tables and Certain Parts Thereof From the People's Republic of China, 69 FR 47868 (August 6, 2004) (Amended Final and Order).

On August 3, 2009, the Department published a notice of opportunity to request an administrative review of the antidumping duty order on, inter alia, ironing tables from the People's Republic of China. See Antidumping or Countervailing Duty Order, Finding, or Suspended Investigation; Opportunity to Request Administrative Review, 74 FR 38397 (August 3, 2009). On August 31, 2009, Home Products International (the Petitioner in this proceeding) requested, in accordance with 19 CFR 351.213(b)(1), an administrative review of this order for Foshan Shunde and Since Hardware.

On September 22, 2009, the Department initiated an administrative review of Foshan Shunde and Since Hardware. See Initiation of Antidumping and Countervailing Duty Administrative Reviews and Requests for Revocation in Part, 74 FR 48224 (September 22, 2009). On February 16, 2010, the Department issued a memorandum that tolled the deadlines for all Import Administration cases by seven calendar days due to the recent Federal Government closure. See Memorandum for the Record from Ronald Lorentzen, DAS for Import Administration, regarding Tolling of Administrative Deadlines as a Result of the Government Closure During the Recent Snowstorm, dated February 12, 2010.

On April 28, 2010, in accordance with section 751(a)(3)(A) of the Tariff Act of 1930, as amended (the Act), and 19 CFR 351.213(h)(2), the Department extended the deadline for the preliminary results of review until September 7, 2010. See Floor-Standing, Metal-Top Ironing Tables and Certain Parts Thereof from the People's Republic of China: Extension of the Time Limit for the Preliminary Results of the Administrative Review, 75 FR 22372 (April 28, 2010).

The Department issued its original antidumping questionnaire to both Foshan Shunde and Since Hardware on September 29, 2009. Foshan Shunde timely filed its response to Section A of the questionnaire on November 13, 2009; Foshan Shunde's Sections C and D responses followed on November 20, 2009. Since Hardware timely filed its response to Section A of the questionnaire on October 29, 2009; Since Hardware's Sections C and D responses followed on November 19, 2009 and December 1, 2009 respectively. Petitioner filed comments on Foshan Shunde's sections A, C and D responses on November 15, 2009. Petitioner filed comments on Since Hardware's sections A, C, and D responses on December 7, 2009.

The Department subsequently issued supplementary questionnaires to Foshan Shunde and Since Hardware on February 24, 2010 and May 5, 2010. Foshan Shunde timely responded to each of these supplemental requests for information on March 8, 2010, March 25, 2010, April 9, 2010, and May 18, 2010. Since Hardware timely responded to each of the Department's supplemental requests for information on March 25, 2010, April 9, 2010, and June 3, 2010. On, April 9, 2010, Petitioner filed additional comments on the original and supplemental sections A, C, and D responses submitted by Since Hardware. On April 15, 2010, Petitioner filed additional comments on the original and supplemental sections A, C, and D responses submitted by Foshan Shunde. On August 25, 2010, Petitioner filed comments concerning the Department's verification of Since Hardware. On August 26, 2010, Petitioner filed comments concerning the Department's verification of Foshan Shunde.

Verification

As provided in section 782(i)(3) of the Act, we verified the information submitted by Foshan Shunde and Since Hardware upon which we have relied in these preliminary results of review. We conducted our verification of Foshan Shunde from June 14 through June 18, 2010 and our verification of Since Hardware from June 21 through June 25, 2010. The Department's verification reports are on the record of this review in the Central Records Unit, Room 1117 of the main Department building. We used standard verification procedures, including examination of relevant accounting and production records, as well as source documentation provided by the respondents. See “Verification of the Sales and Factors Response of Foshan Shunde (Guangzhou) Co., Ltd. in the Antidumping Review of Floor Standing, Metal-Top Ironing Tables and Certain Parts Thereof from the People's Republic of China (PRC)” (Foshan Shunde Verification Report) dated August 17, 2010 . See also “Verification of the Sales and Factors Response of Since Hardware (Guangzhou) Co. Ltd. in the Antidumping Review of Floor Standing, Metal-Top Ironing Tables and Certain Parts Thereof from the People's Republic of China (PRC)” dated August 16, 2010 (Since Hardware 2008-2009 Verification Report ).

Surrogate Country and Surrogate Value Data

On July 13, 2010, the Department sent interested parties a letter inviting comments on surrogate country selection and surrogate value data. See the Department's Letter to All Interested Parties; Administrative Review of Floor-Standing, Metal-Top, Ironing Tables and Parts Thereof from the People's Republic of China (“PRC”): Surrogate Country List, dated July 13, 2010 (Surrogate Country List). On August 17, 2010, the Department received information to value factors of production (FOP) from Foshan Shunde, Since Hardware and the Petitioner. With the exception of the surrogate value data to value labor, all of the surrogate values placed on the record were obtained from sources in India.

Scope of the Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means product sold as a ready-to-use ensemble consisting of the metal-top table and a pad and cover, with or without additional features, e.g., iron rest or linen rack. The term “incomplete” ironing table means product shipped or sold as a “bare board” i.e., a metal-top table only, without the pad and cover with or without additional features, e.g., iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables are currently classifiable under Harmonized Tariff Schedule of the United States (HTSUS) subheading 9403.20.0011. The subject metal top and leg components are classified under HTSUS subheading 9403.90.8040. Although the HTSUS subheadings are provided for convenience and for Customs and Border Protection (CBP) purposes, the Department's written description of the scope remains dispositive.

Non-Market-Economy Status

In every case conducted by the Department involving the PRC, the PRC has been treated as a non-market economy (NME). In accordance with section 771(18)(C)(i) of the Act, any determination that a foreign country is an NME country shall remain in effect until revoked by the administering authority. See, e.g., Brake Rotors from the People's Republic of China: Final Results and Partial Rescission of the 2004/2005 Administrative Review and Notice of Rescission of 2004/2005 New Shipper Review, 71 FR 66304 (November 14, 2006). None of the parties to this administrative review has contested such treatment. Accordingly, we calculated normal value (NV) in accordance with section 773(c) of the Act, which applies to NME countries.

Surrogate Country

When the Department investigates imports from an NME country and available information does not permit the Department to determine NV pursuant to section 773(a) of the Act, then, pursuant to section 773(c)(4) of the Act, the Department bases NV on an NME producer's FOPs to the extent possible, in one or more market-economy countries that (1) are at a level of economic development comparable to that of the NME country, and (2) are significant producers of comparable merchandise. The Department determined India, the Philippines, Indonesia, Thailand, Ukraine and Peru are countries comparable to the PRC in economic development. (See Memorandum to Richard Weible from Carole Showers Request for a List of Surrogate Countries for an Administrative Review of the Antidumping Order on Floor Standing Metal-Top Ironing Tables and Certain Parts (“Ironing Tables”) from the People's Republic of China dated July 8, 2010 (Surrogate Country List)).

Based on publicly available information placed on the record by interested parties (e.g., production data), the Department determines India to be a reliable source for surrogate values because India is at a comparable level of economic development pursuant to section 773(c)(4) of the Act, is a significant producer of the subject merchandise, and has publicly available and reliable data. Accordingly, the Department has selected India as the surrogate country for purposes of valuing the FOPs because it meets the Department's criteria for surrogate country selection.

Separate Rates

In proceedings involving NME countries, the Department has a rebuttable presumption that all companies within the country are subject to government control and, thus, should be assigned a single antidumping duty rate. It is the Department's policy to assign all exporters of subject merchandise in an NME country this single rate unless an exporter can demonstrate that it is sufficiently independent so as to be entitled to a separate rate. See Policy Bulletin 05.1: Separate Rates Practice and Application of Combination Rates in Antidumping Investigations involving Non-Market Economy Countries, available at http://ia.ita.gov/policy/bull05-1.pdf. Exporters can demonstrate this independence through the absence of both de jure and de facto governmental control over export activities. The Department analyzes each entity exporting the subject merchandise under a test arising from the Final Determination of Sales at Less Than Fair Value: Sparklers from the People's Republic of China, 56 FR 20588 at Comment 1 (May 6, 1991) (Sparklers). This concept was further developed in Notice of Final Determination of Sales at Less Than Fair Value: Silicon Carbide from the People's Republic of China, 59 FR 22585 (May 2, 1994). (Silicon Carbide). However, if the Department determines that a company is wholly foreign-owned or located in a market economy, then a separate rate analysis is unnecessary to determine whether it is independent from government control.

Accordingly, we have considered whether Foshan Shunde and Since Hardware are independent from government control, and therefore eligible for separate rates. The Department's separate-rate test to determine whether the exporters are independent from government control does not consider, in general, macroeconomic/border-type controls, e.g., export licenses, quotas, and minimum export prices, particularly if these controls are imposed to prevent dumping. See Notice of Final Determination of Sales at Less Than Fair Value: Certain Preserved Mushrooms from the People's Republic of China, 63 FR 72255, 72256 (December 31, 1998). The test focuses, rather, on controls over the investment, pricing, and output decision-making process at the individual firm level. See, e.g., Notice of Final Determination of Sales at Less than Fair Value: Certain Cut-to-Length Carbon Steel Plate from Ukraine, 62 FR 61754, 61758 (November 19, 1997); see also Tapered Roller Bearings and Parts Thereof, Finished and Unfinished, From the People's Republic of China; Final Results of Antidumping Duty Administrative Review, 62 FR 61276, 61279 (November 17, 1997).

Foshan Shunde and Since Hardware both provided complete separate-rate information in their responses to our original and supplemental questionnaires. Accordingly, we performed a separate-rates analysis to determine whether Foshan Shunde and Since Hardware are independent from government control.

Absence of De Jure Control

The Department considers the following de jure criteria in determining whether an individual company may be granted a separate rate: (1) an absence of restrictive stipulations associated with an individual exporter's business and export licenses; (2) any legislative enactments decentralizing control of companies; and (3) other formal measures by the government decentralizing control of companies. See Sparklers, 56 FR 20588 at Comment 1. The evidence provided by Foshan Shunde and Since Hardware supports a preliminary finding of de jure absence of control based on the following: (1) an absence of restrictive stipulations associated with their business and export licenses; (2) applicable legislative enactments decentralizing control of companies; and (3) formal measures (e.g., the Foreign Trade Law) decentralizing control of companies. See, e.g., Foshan Shunde November 13, 2009 Section A questionnaire response at pages at A-4-A-5; see also Since Hardware October 29, 2009 questionnaire response at pages A-3-A-5.

Absence of De Facto Control

Typically, the Department considers four factors in evaluating whether a respondent is subject to de facto government control of its export functions: (1) whether the export prices are set by, or subject to, the approval of a government authority; (2) whether the respondent has authority to negotiate and sign contracts and other agreements; (3) whether the respondent has autonomy from the government in making decisions regarding the selection of its management; and (4) whether the respondent retains the proceeds of its export sales and makes independent decisions regarding disposition of profits or financing of losses. See Silicon Carbide 59 FR 22857; see also Notice of Final Determination of Sales at Less Than Fair Value: Furfuryl Alcohol from the People's Republic Of China, 60 FR 22544 (May 8, 1995) The Department has determined that an analysis of de facto control is critical in determining whether respondents are, in fact, subject to a degree of governmental control, which would preclude the Department from assigning separate rates. .

The evidence provided by Foshan Shunde and Since Hardware support a preliminary finding of de facto absence of government control based on the following: (1) the absence of evidence that the export prices are set by or are subject to the approval of a government agency; (2) the respondents have authority to negotiate and sign contracts and other agreements; (3) the respondents have autonomy from government in making decisions regarding the selection of management; and (4) the respondents retain the proceeds of their export sales and make independent decisions regarding disposition of profits or financing of losses. See Foshan Shunde November 13, 2010 Section A questionnaire response at A-7 through- A-9; see also Since Hardware October 29, 2010 Section A questionnaire response at A-5 through A-8.

In accordance with the criteria identified in Sparklers and Silicon Carbide, the evidence placed on the record of this review by Foshan Shunde and Since Hardware demonstrates an absence of and de facto government control with respect to Foshan Shunde's and Since Hardware's exports of the subject merchandise. Accordingly, we have determined that Foshan Shunde and Since Hardware have demonstrated eligibility for separate rates.

Fair Value Comparisons

To determine whether the respondents' sales of the subject merchandise to the United States were made at prices below normal value (NV), we compared its United States prices to normal values, as described in the “U.S. Price” and “Normal Value” sections of this notice. See section 773(a) of the Act.

U.S. Price

Export Price

We based U.S. price for Foshan Shunde and Since Hardware on export price (EP) in accordance with section 772(a) of the Act, because the first sale to an unaffiliated purchaser was made prior to importation, and constructed export price (CEP) was not otherwise warranted by the facts on the record. We calculated EP based on the packed price from the exporter to the first unaffiliated customer in the United States. We deducted foreign inland freight, and foreign brokerage and handling expenses from the starting price (gross unit price), in accordance with section 772(c) of the Act. Where appropriate, we made an addition to U.S. price for billing adjustments.

Both Since Hardware and Forever Holdings incurred foreign inland freight and foreign brokerage and handling expenses from PRC service providers. We therefore valued these services using Indian surrogate values (see “Factors of Production” section below for further discussion).

Normal Value

Factors of Production (FOPs)

Section 773(c)(1) of the Act provides that the Department shall determine NV using an FOP methodology if the merchandise is exported from an NME country and the Department finds that the available information does not permit the calculation of NV using home-market prices, third-country prices, or constructed value under section 773(a) of the Act. When determining NV in an NME context, the Department will base NV on FOPs because the presence of government control on various aspects of these economies renders price comparisons and the calculation of production costs invalid under our normal methodologies. The Department's questionnaires required Foshan Shunde and Since Hardware to provide information regarding the weighted-average FOP.

In accordance with 19 CFR 351.408(c)(1), the Department will normally use publically available information to find an appropriate SV to value FOPs, but when a producer sources an input from a market economy and pays for it in market-economy currency, the Department may value the factor using the actual price paid for the input. See 19 CFR 351.408(c)(1); see also Shakeproof Assembly Components, Div. of Ill. Tool Works, Inc. v. United States, 268 F. 3rd 1376, 1382-1383 (Fed. Cir. 2001) (affirming the Department's use of market-based prices to value FOPs). During the POR, Foshan Shunde reported that it purchased a certain production material from a market economy supplier. See Foshan Shunde November 20, 2009 Section D response at exhibit D-2. Because Foshan Shunde purchased more than 33 percent of its total volume of this particular input from a market economy supplier, we used the market economy price paid for that material to value this input. See Foshan Shunde November 20, 2009 questionnaire response at exhibit D-2.) During the POR, Since Hardware made no purchases from market economy suppliers. See Since Hardware December 1, 2009 at Appendix D-6.

We calculated NV based on FOPs in accordance with section 773(c)(3) and (4) of the Act and 19 CFR 351.408(c). The FOPs include but are not limited to: (1) hours of labor required; (2) quantities of raw material employed; (3) amounts of energy and other utilities consumed; and (4) representative capital costs. The Department used FOPs reported by Foshan Shunde and Since Hardware for materials, energy, labor, by-products, and packing. To calculate NV, we multiplied the reported unit factor quantities by publicly available values in the surrogate country, India.

Foshan Shunde and Since Hardware both reported by-product sales. Consistent with the Department's determination in the investigation of Diamond Sawblades from the PRC, we will deduct the surrogate value of by-products sold from normal value because the surrogate financial statements on the record of this administrative review contain no references to the treatment of by-products and because Since Hardware and Foshan Shunde provided evidence to demonstrate sales of their by-products. See Final Determination of Sales at Less Than Fair Value and Final Partial Affirmative Determination of Critical Circumstances: Diamond Sawblades and Parts Thereof from the People's Republic of China, 71 FR 29303 (May 22, 2006) (Diamond Sawblades from the PRC), and accompanying Issues and Decision Memorandum at Comment 9, unchanged in Notice of Amended Final Determination of Sales at Less Than Fair Value: Diamond Sawblades and Parts Thereof from the People's Republic of China, 71 FR 35864 (June 22, 2006). This is consistent with accounting principles based on a reasonable assumption that if a company sells a by-product, the by-product necessarily incurs expenses for overhead, SG&A, and profit. Id.

In selecting the surrogate Indian values, we considered the quality, specificity, and contemporaneity of the data, in accordance with our practice. See, e.g., Electrolytic Manganese Dioxide from the People's Republic of China: Final Determination of Sales at Less Than Fair Value and accompanying Issues and Decision Memorandum at Comment 2. The Department adjusted input prices by including freight costs to make them delivered prices, as appropriate. Specifically, the Department added to Indian import SVs a surrogate freight cost using the shorter of the reported distance from the domestic supplier to the factory or the distance from the nearest seaport to the factory of production. This adjustment is in accordance with the decision of the U.S. Court of Appeals for the Federal Circuit (Federal Circuit) in Sigma Corp. v. United States, 117 F. 3rd 1401, 1407-08 (Fed. Cir. 1997). A detailed description of all SVs used to value Foshan Shunde's and Since Hardware's FOPs may be found in the September 7, 2010 Memorandum to the File through Robert James, Program Manager Office 7 from Michael J. Heaney International Trade Analyst: Antidumping Duty Administrative Review of Floor-Standing, Metal Top Ironing Tables and Certain Parts Thereof from the People's Republic of China, dated September 7, 2010 (Factors Valuation Memorandum.)

The Department calculated SVs for the majority of reported FOPs purchased from NME sources using the contemporaneous, weighted average unit import value derived from the Ministry of Commerce of India (Indian Import Statistics) for the POR. The Department used Indian import data from the Global Trade Atlas (GTA) published by Global Trade Information Services, Inc. (GTIS) which is sourced from the Directorate General of Commercial Intelligence & Statistics, Indian Ministry of Commerce, to determine the surrogate values for most raw materials, by-products and packing material inputs. The Department has disregarded statistics from NMEs, countries with generally available export subsidies, and undetermined countries, in calculating average value. In accordance with the Omnibus Trade and Competiveness Act of 1988, Conf. Report to Accompany HR. 3, HR Rep. No., 100th Cong,. 2nd Session (1988), the Department continues to apply its long-standing practice of disregarding surrogate values if it has a reason to believe or suspect the source data may be subsidized. In this regard, the Department has previously found that it is appropriate to disregard such prices from India, Indonesia, South Korea and Thailand because we have determined that these countries maintain broadly available, non-industry specific export subsidies. See, e.g. Expedited Sunset Review of the Countervailing Duty Order on Carbazole Violet Pigment 23 from India, 75 FR 13257 (March 19, 2010), and accompanying Issues and Decisions Memorandum at pages 4-5; Expedited Sunset Review of the Countervailing Duty Order on Certain Cut-to Length Carbon Quality Steel Plate from Indonesia, 70 FR 45692 (August 8, 2005), and accompanying Issues and Decisions Memorandum at page 4; Certain Hot-Rolled Carbon Steel Flat Products from Thailand: Final Results of Countervailing Duty Determination, 66 FR 50410 (October 3, 2001), and accompanying Issues and Decision Memorandum at page 23. For a detailed description of all surrogate values used for Foshan Shunde and Since Hardware, see the Factors Valuation Memorandum.

In past cases, it has been the Department's practice to value various FOPs using import statistics of the primary selected surrogate country from the World Trade Atlas (WTA), as published by GTIS. See, e.g., Certain Preserved Mushrooms from the People's Republic of China: Preliminary Results of Antidumping Duty New Shipper Review, 74 FR 50946, 50950 (October 2, 2009). However, in October 2009, the Department learned that Indian import data obtained from the WTA, as published by GTIS, began identifying the original reporting currency for India as the U.S. dollar. The Department then contacted GTIS about the change in the original reporting currency for India from the Indian rupee to the U.S. dollar. Officials at GTIS explained that while GTIS obtains data on imports into India directly from the Ministry of Commerce, Government of India, as denominated and published in Indian rupees, the WTA software is limited with regard to the number of significant digits it can manage. Therefore, GTIS made a decision to change the official reporting currency for Indian data from the Indian rupee to the U.S. dollar in order to reduce the loss of significant digits when obtaining data through the WTA software. GTIS explained that it converts the Indian rupee to the U.S. dollar using the monthly Federal Reserve exchange rate applicable to the relevant month of the data being downloaded and converted. See Certain Oil Country Tubular Goods from the People's Republic of China: Final Determination of Sales at Less Than Fair Value , Affirmative Final determination of Critical Circumstances, and Final Determination of Targeted Dumping, 75 FR 20335 (April 19, 2010), and accompanying Issues and Decision Memorandum at Comment 4.

However, the data reported in the GTA software report import statistics, such as data from India, in the original reporting currency and thus these data correspond to the original currency value reported by each country. Additionally, the data reported in GTA software are reported to the nearest digit and thus there is not a loss of data by rounding, as there is with the data reported by the WTA software. Consequently, the Department will now obtain import statistics from GTA for valuing FOPs because the GTA import statistics are in the original reporting currency of the country from which the data are obtained and have the same level of accuracy as the original data released.

The Department valued electricity using the updated electricity price data for small, medium, and large industries, as published by the Central Electricity Authority, an administrative body of the Government of India, in its publication titled Electricity Tariff & Duty and Average Rates of Electricity Supply in India, dated March 2008. These electricity rates represent actual, country-wide, publically-available information on tax-exclusive electricity rates charged to small, medium, and large industries in India. We did not inflate this value because utility rates represent current rates, as indicated by the effective dates listed for each of the rates provided. See Factors Valuation Memorandum at page 7.

The Department valued water using data from the Maharashtra Industrial Development Corporation (MDIC) as it includes a wide range of industrial water tariffs. To value water, we used the average rate for industrial use from MDIC water rates at http://www.midcindia.org. See Factors Valuation Memorandum at page 8.

We valued diesel fuel using the rates provided by the OECD's International Energy Agency's publication: Key World Energy Statistics. The prices are based on July 2007 prices in India for diesel. See Factor Valuation Memorandum at page 7.

For direct, indirect, and packing labor, pursuant to a recent decision by the Federal Circuit, we have calculated an hourly wage rate to use in valuing Foshan Shunde's and Since Hardware's reported labor input by averaging earnings and/or wages in countries that are economically comparable to the PRC and that are significant producers of comparable merchandise. See Dorbest Ltd. v. United States, 2009-1257 at 20 (Fed. Cir. 2010). Because this wage rate does not separate labor rates into different skill levels or types of labor, the Department has applied the same wage rate to all skill levels and types of labor reported by either Foshan Shunde or Since Hardware. See Factors Valuation Memorandum at page 7.

Since Hardware claimed that it utilized hot rolled steel as a production input of the subject merchandise. However, Since Hardware's supporting documentation provided to Department officials at verification did not demonstrate Since Hardware purchased hot-rolled steel in sizes of less than 1.1 millimeters. See Since Hardware 2008-2009 Verification Report at pages 21-23. We, therefore, assigned the surrogate value of cold-rolled steel to value this production input.

The Department valued truck freight expenses using a per-unit average rate calculated from data on the Infobanc Web site: http://www.infobanccom/logistics/logtruck.htm. The logistics section of this Web site contains inland freight truck rates between many large Indian cities. Since this value is not contemporaneous with the POR, the Department deflated the rate using the Wholesale Price Index of India. See Factors Valuation Memorandum at page 9.

The Department valued brokerage and handling using a price list of export procedures necessary to export a standardized cargo of goods in India. The price list is compiled based on a survey case study of the procedural requirements for trading a standard shipment of goods by ocean transport in India that is published in Doing Business 2010: India, by the World Bank.

To value factory overhead, selling, general and administrative (SG&A) expenses, and profit the Department used the audited 2005-2006 financial statements of Infiniti Modules Pvt. Ltd. (Infiniti Modules).

We are preliminarily granting a by-product offset to both Foshan Shunde and Since Hardware for scrap steel sales. See Factors Valuation Memorandum at pages 3-4.

Currency Conversion

Where necessary, the Department made currency conversions into U.S. dollars, in accordance with section 773(A) of the Act, based on the exchange rates in effect on the date of the U.S. sale, as certified by the Federal Reserve Board.

Preliminary Results of Review

We preliminarily determine that the following antidumping duty margins exist:

Exporter | Margin (percent)
Foshan Shunde Yongjian Housewares & Hardware Co., Ltd. | 8.49
Since Hardware | 56.49

Assessment Rates

Pursuant to 19 CFR 351.212(b), the Department will determine, and CBP shall assess, antidumping duties on all appropriate entries. The Department will issue appropriate assessment instructions directly to CBP 15 days after the date of publication of the final results of this review. For assessment purposes, where possible, we calculated importer-specific ad valorem assessment rates for ironing tables from the PRC based on the ratio of the total amount of the dumping duties calculated for the examined sales to the total entered value of those same sales. We will instruct CBP to assess antidumping duties on all appropriate entries covered by this review if any assessment rate calculated in the final results of this review is above de minimis. The final results of this review shall be the basis for the assessment of antidumping duties on entries of merchandise covered by the final results of these reviews and for future deposits of estimated duties, where applicable.

Cash Deposit Requirements

The following cash deposit requirements will be effective upon publication of the final results of this administrative review for all shipments of the subject merchandise entered, or withdrawn from warehouse, for consumption on or after the publication date, as provided for by section 751(a)(2)(C) of the Act: (1) for the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 157.68 percent (see Amended Final and Order); and (4) for all non-PRC exporters of subject merchandise which have not received their own rate, the cash deposit rate will be the rate applicable to the PRC exporters that supplied that non-PRC exporter. These deposit requirements, when imposed, shall remain in effect until publication of the final results of the next administrative review.

Public Comment

The Department will disclose calculations performed in connection with the preliminary results of this review within five days of the date of publication of this notice in accordance with 19 CFR 351.224(b). Any interested party may request a hearing within 30 days of publication of this notice in accordance with 19 CFR 351.310(c). Any hearing will be held 37 days after the publication of this notice, or the first workday thereafter unless the Department alters the date pursuant to 19 CFR 351.310(d). Individuals who wish to request a hearing must submit a written request within 30 days of the publication of this notice in the Federal Register to the Assistant Secretary for Import Administration, U.S. Department of Commerce, Room 1870, 14th Street and Constitution Avenue, NW, Washington, DC 20230. Requests for a public hearing should contain: (1) the party's name, address, and telephone number; (2) the number of participants; and (3) to the extent practicable, an identification of the arguments to be raised at the hearing.

Unless otherwise notified by the Department, interested parties may submit case briefs within 30 days of the date of publication of this notice in accordance with 19 CFR 351.309(c)(1)(ii). As part of the case brief, parties are encouraged to provide a summary of the arguments and a table of authorities cited in accordance with 19 CFR 351.309(c)(2). Rebuttal briefs, which must be limited to issues raised in the case briefs, must be filed within five days after the case brief is filed in accordance with 19 CFR 351.309(d). If a hearing is held, an interested party may make an affirmative presentation only on arguments included in that party's case brief and may make a rebuttal presentation only on arguments included in that party's rebuttal brief in accordance with 19 CFR 351.310(c). Parties should confirm by telephone the time, date, and place of the hearing within 48 hours before the scheduled time. The Department will issue the final results of this review, which will include the results of its analysis of issues raised in the briefs, not later than 120 days after the date of publication of this notice in accordance with section 751(a)(3)(A) of the Act and 19 CFR 351.213(h)(1).

Notification to Importers

This notice also serves as a preliminary reminder to importers of their responsibility under 19 CFR 351.402(f) to file a certificate regarding the reimbursement of antidumping duties prior to liquidation of the relevant entries during these review periods. Failure to comply with this requirement could result in the Secretary's presumption that reimbursement of antidumping duties occurred and the subsequent assessment of double antidumping duties.

These preliminary results of administrative review are issued and this notice is published in accordance with sections 751(a)(1) and 777(i)(1) of the Act.

Dated: September 7, 2010.
Ronald K. Lorentzen,
Deputy Assistant Secretary for Import Administration.

[FR Doc. 2010-22893 Filed 9-13-10; 8:45 am]

BILLING CODE 3510-DS-S